DEPARTMENT OF COMMERCE

International Trade Administration

Request for Applications for United States Travel and Tourism Advisory Board

AGENCY: International Trade Administration, Commerce.

ACTION: Notice of an opportunity to apply for membership on the United States Travel and Tourism Advisory Board.

SUMMARY: The Department of Commerce is currently seeking applications for four memberships on the United States Travel and Tourism Advisory Board (Board). The purpose of the Board is to advise the Secretary of Commerce on matters relating to the travel and tourism industry.

DATES: All applications for immediate consideration for appointment must be received by the Office of Advisory Committees by 5 p.m. Eastern Standard Time (EST) on December 28, 2012. After that date, the Department will continue to accept applications under this notice through August 30, 2013 to fill any vacancies that may arise.

ADDRESSES: Please submit application information by mail to Jennifer Pilat, Office of Advisory Committees, U.S. Travel and Tourism Advisory Board Executive Secretariat, U.S. Department of Commerce, Room 4043, 1401 Constitution Avenue NW., Washington, DC 20230 or via email to oacie@trade.gov.

FOR FURTHER INFORMATION CONTACT: Jennifer Pilat, U.S. Travel and Tourism Advisory Board Executive Secretariat, U.S. Department of Commerce, Room 4043, 1401 Constitution Avenue NW., Washington, DC 20230, telephone: 202-482-1369, email: Jennifer.Pilat@trade.gov.

SUPPLEMENTARY INFORMATION: The United States Travel and Tourism Advisory Board (Board) is established under the Federal Advisory Committee Act, as amended, 5 U.S.C. App. (FACA), and advises the Secretary of Commerce (Secretary) on matters relating to the U.S. travel and tourism industry pursuant to 15 U.S.C. 1512. The Board provides a means of ensuring regular contact between the U.S. Government and the travel and tourism industry. The Board advises the Secretary on government policies and programs that affect United States travel and tourism, and the Board serves as forum for discussing and proposing solutions to industry-related problems.

The Board acts as a liaison among the stakeholders represented by the membership and provides a forum for those stakeholders on current and emerging issues in the travel and tourism sector. The Board recommends ways to ensure that the United States remains the preeminent destination for international visitation and tourism throughout the world. The Office of Advisory Committees is accepting applications for Board members. Members shall represent companies and organizations in the travel and tourism sector from a broad range of products and services, company sizes, and geographic locations and shall be drawn from large, medium, and small travel and tourism companies, private-sector organizations involved in the export of travel and tourism-related products and services, and other tourism-related entities.

Each Board member shall serve as the representative of a U.S. company in the travel and tourism industry, a U.S. organization involved in the export of travel and tourism-related products and services, or a tourism-related U.S. entity. For eligibility purposes, a “U.S. company” is a for-profit firm that is incorporated in the United States (or an unincorporated U.S. firm with its principal place of business in the United States) that is controlled by U.S. citizens or by other U.S. companies. A company is not a U.S. company if 50 percent plus one share of its stock (if a corporation, or a similar ownership interest of an unincorporated entity) is known to be controlled, directly or indirectly, by non-U.S. citizens or non-U.S. companies. For eligibility purposes, a “U.S. organization” is an organization, including trade associations and nongovernmental organizations (NGOs), established under the laws of the United States, that is controlled by U.S. citizens, by another U.S. organization (or organizations), or by a U.S. company (or companies), as determined based on its board of directors (or comparable governing body), membership, and funding sources, as applicable. For eligibility purposes, a U.S. entity includes state and local tourism marketing entities, state government tourism offices, state and/or local government-supported tourism marketing entities, multi-state tourism marketing entities, and other tourism-related entities that can demonstrate U.S. ownership or control.

Members of the Board will be selected, in accordance with applicable Department of Commerce guidelines, based on their ability to carry out the objectives of the Board as set forth above. Members of the Board shall be selected in a manner that ensures that the Board is balanced in terms of points of view, industry subsector, range of products and services, demographics, geography, and company size.

Additional factors which will be considered in the selection of Board members include candidates' proven experience in the strategic development and management of travel and tourism-related or other service-related organizations; or the candidate's proven experience in promoting, developing, and implementing advertising and marketing programs for travel-related or tourism-related industries.

Priority may be given to a Chief Executive Officer, Executive Director, or President (or comparable level of responsibility) of a U.S. company, U.S. organization, or U.S. entity in the travel and tourism sector.

Members will be appointed to fill vacancies for the remainder of their current appointment terms. All appointments will automatically terminate no later than November 15, 2013. Members will serve at the discretion of the Secretary of Commerce.

Members shall serve in a representative capacity, representing the views and interests of their particular industry subsector. Board members are not special government employees, and will receive no compensation for their participation in Board activities.

Members participating in Board meetings and events will be responsible for their travel, living and other personal expenses. Meetings will be held regularly and, to the extent practical, not less than twice annually, usually in Washington, DC. To be considered immediately for membership, please provide the following information by the 12/28/2012, 5 p.m. EST deadline, via email, to OACIE@trade.gov or, via mail, to Jennifer Pilat, Office of Advisory Committees, U.S. Travel and Tourism Advisory Board Executive Secretariat, U.S. Department of Commerce, Room 4043, 1401 Constitution Avenue NW., Washington, DC 20230. After that date, the Department will continue to accept applications under this notice through August 30, 2013 to fill any vacancies that may arise.

1. Name and title of the individual requesting consideration.

2. A sponsor letter from the applicant on his or her company/organization/entity letterhead or, if the applicant is to represent a company/organization/entity other than his or her employer, a letter from the company/organization/entity to be represented, containing a brief statement of why the applicant should be considered for membership on the Board. This sponsor letter should also address the applicant's travel and tourism-related experience.

3. The applicant's personal resume.

4. An affirmative statement that the applicant is not required to register as a foreign agent under the Foreign Agents Registration Act of 1938, as amended.

5. An affirmative statement by the applicant that he or she is not a Federally registered lobbyist, and that the applicant understands that he or she, if appointed, will not be allowed to continue to serve as a Board member if the applicant becomes a Federally registered lobbyist.

6. If the applicant represents a tourism-related U.S. entity, the functions and responsibilities of the entity, and information regarding the entity's U.S. ownership or control.

7. If the applicant represents an organization, information regarding the control of the organization, including the governing structure, members, and revenue sources as appropriate signifying compliance with the criteria set forth above.

8. If the applicant represents a company, information regarding the control of the company, including the governing structure and stock holdings as appropriate signifying compliance with the criteria set forth above.

9. The company's, organization's, or entity's size and ownership, product or service line and major markets in which the company, organization, or operates.

10. Brief statement describing how the applicant will contribute to the work of the Board based on his or her unique experience and perspective (not to exceed 100 words).

Dated: December 11, 2012.
Jennifer Pilat,
Executive Secretary, U.S. Travel and Tourism Advisory Board.

[FR Doc. 2012-30309 Filed 12-18-12; 8:45 am]

BILLING CODE 3510-DR-P